DEPARTMENT OF DEFENSE

Office of the Secretary

[Docket ID: DOD-2013-OS-0100]

Proposed Collection; Comment Request

AGENCY: Department of Defense Education Activity (DoDEA), DoD.

ACTION: Notice.

In compliance with Section 3506(c)(2)(A) of the Paperwork Reduction Act of 1995, the Department of Defense Education Activity announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 9, 2013.

ADDRESSES: You may submit comments, identified by docket number and title, by any of the following methods:

• Federal eRulemaking Portal: http://www.regulations.gov. Follow the instructions for submitting comments.

• Mail: Federal Docket Management System Office, 4800 Mark Center Drive, Suite 02G09, East Tower, 2nd Floor, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (Assessment and Accountability), ATTN: Leesa Rompre, 4800 Mark Center Drive, Alexandria, Virginia 22350 or at Leesa.Rompre@hq.dodea.edu or at (571) 372-1878.

Title; Associated Form; and OMB Control Number: Department of Defense Education Activity (DoDEA) Parent Survey and Student Survey, OMB Control Number 0704-0462.

Needs And Uses: This information collection requirement is necessary for schools to maintain their accreditation status from the accreditation agency AdvancED□. Accreditation through AdvancED□ is based on adherence to the five AdvancED□ standards, verifiable student and organizational performance, and stakeholder responses. DoDEA is seeking renewal for the Parent Survey and Student Survey.

Affected Public: Individuals or Households.

Annual Burden Hours: 193.

Number of Respondents: 580.

Responses per Respondent: 1.

Average Burden per Response: 20 minutes.

Frequency: Annually.

SUPPLEMENTARY INFORMATION:

Summary of Information Collection

The primary objective of the information collection is to allow the primary stakeholders (students and parents or legal guardians) the opportunity to provide meaningful input to guide the school in improvement efforts in a systemic method.

The information provided through this information collection is anonymous and is compiled and distributed to the school through the outside accreditation agency AdvancED. The information collection process is voluntary.

Dated: June 4, 2013.
Aaron Siegel,
Alternate OSD Federal Register Liaison Officer, Department of Defense.

[FR Doc. 2013-13634 Filed 6-7-13; 8:45 am]

BILLING CODE 5001-06-P